ENVIRONMENTAL PROTECTION AGENCY

[FRL-7028-3]

Proposed Cercla Administrative Cashout Settlement; City of New Bedford, Massachusetts, New Bedford Industrial Park Superfund Site

AGENCY: Environmental Protection Agency.

ACTION: Notice of proposed settlement; request for public comment.

SUMMARY: In accordance with section 122(i) of the Comprehensive Environmental Response, Compensation, and Liability Act, as amended (“CERCLA”), 42 U.S.C. 9622(i), notice is hereby given of a proposed administrative settlement for recovery of past and projected future response costs concerning the Bedford Industrial Park Superfund Site in New Bedford, Massachusetts with the following settling party: City of New Bedford, Massachusetts. The settlement requires the settling party to pay $165,538.03 to the Hazardous Substance Superfund plus an additional sum for interest on that amount calculated from June 30, 1998 through May 16, 2001. The settlement includes a covenant not to sue the settling party pursuant to Sections 106 and 107(a) of CERCLA,” 42 U.S.C. 9606 and 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02214-2023.

DATES: Comments must be submitted by September 10, 2001.

ADDRESSES: Comments should be addressed to the Regional Hearing Clerk, U.S. Environmental Protection Agency, Region I, One Congress Street, Suite 1100, Mailcode RAA, Boston, Massachusetts 02203 and should refer to: In re: New Bedford Industrial Park Superfund Site, U.S. EPA Docket No. 01-2001-0053.

FOR FURTHER INFORMATION CONTACT: A copy of the proposed settlement may be obtained from David Peterson, U.S. Environmental Protection Agency, Region I, Office of Environmental Stewardship, One Congress Street, Suite 1100, Mailcode SES, Boston, MA 02114-2023.

Dated: July 31, 2001.
Richard A. Cavagnero,
Acting Director, Office of Site Remediation & Restoration.

[FR Doc. 01-20125 Filed 8-9-01; 8:45 am]

BILLING CODE 6560-50-P